DEPARTMENT OF HEALTH AND HUMAN SERVICES

Substance Abuse and Mental Health Services Administration

Tribal Technical Advisory Committee; Notice of Meeting

AGENCY: Substance Abuse and Mental Health Services Administration (SAMHSA).

ACTION: Notice of Advisory Committee Meeting and Tribal Consultation.

SUMMARY: Notice is given for the August 29, 2023, virtual meeting of SAMHSA's Tribal Technical Advisory Committee (TTAC). TTAC meetings are exclusively between federal officials and elected officials of Tribal governments (or their designated employees) to exchange views, information, or advice related to the management or implementation of SAMHSA programs. The public may attend but are not allowed to participate in the meeting. Immediately following the TTAC meeting, SAMHSA will host American Indian and Alaska Native (AI/AN) Federally Recognized Tribes for a virtual Tribal Consultation session on the BEHAVIORAL HEALTH AND SUBSTANCE USE DISORDER RESOURCES FOR NATIVE AMERICANS PROGRAM.

DATES: The virtual SAMHSA TTAC Meeting will be held on August 29, 2023, from 1:00 p.m. to 4:00 p.m. EDT. Registration is required: https://snacregister.samhsa.gov. You must register to obtain the call-in number, access code, and/or web access link or request special accommodations for those with disabilities.

The virtual Tribal Consultation will be held on August 29, 2023, at 4:00 p.m. EDT. Registration is required: https://www.zoomgov.com/meeting/register/vJItfuitqDIvGJb-7z8G5vUTNjXjFDxOG8U. Instructions to access the Zoom virtual consultation will be provided in the above link following registration.

FOR FURTHER INFORMATION CONTACT: CAPT Karen Hearod, MSW, LCSW, Director, Office of Tribal Affairs and Policy, Substance Abuse and Mental Health Services Administration, Telephone: (202)-868-9931, Email: otap@samhsa.hhs.gov

SUPPLEMENTARY INFORMATION: The SAMHSA TTAC meeting is open to the public. An agenda with call-in information will be posted on the SAMHSA website prior to the meeting at: https://www.samhsa.gov/about-us/advisory-councils/meetings. This meeting will include, but is not limited to, remarks from the Assistant Secretary for Mental Health and Substance Use; updates on SAMHSA priorities; follow up on topics related to the previous TTAC meetings; and council discussions. Meeting information and a roster of TTAC members may be obtained either by accessing the SAMHSA Council's website at https://www.samhsa.gov/about-us/advisory-councils/, or by contacting Karen Hearod.

SAMHSA's TTAC provides a venue wherein Tribal leadership and SAMHSA staff can exchange information about public health issues, identify urgent mental health and substance abuse needs, and discuss collaborative approaches to addressing these behavioral health issues and needs.

The purpose of Tribal Consultation is to advance SAMHSA support for, and collaboration with, federally recognized AAI/AN Tribes. To advance these goals, SAMHSA conducts government-to-government consultations with Indian Tribes represented by the Tribal President, Tribal Chair, Tribal Governor, or an elected or appointed Tribal Leader, or their authorized representative(s) to the extent practicable and permitted by law before SAMHSA takes any action that will significantly affect Indian Tribes. Consultation is an enhanced form of communication that emphasizes trust, respect, and shared responsibility. It is an open and free exchange of information and opinion among parties that leads to mutual understanding.

Federally Recognized Indian Tribes represented by the Tribal President, Tribal Chair, or Tribal Governor, or an elected or appointed Tribal Leader, or their authorized representative(s) may participate in this consultation by submitting written views, opinions, recommendations, and data. Testimony received, including attachments and other supporting materials, are part of the public record and subject to public disclosure. Do not include any information in your testimony or supporting materials considered confidential or inappropriate for public disclosure. If you include your name, contact information, or other personal identifiers in the body of your testimony, that information will be on public display. SAMHSA will review all submissions and may choose to redact, or withhold, submissions containing private or proprietary information such as social security numbers, medical information, inappropriate language, or duplicate/near duplicate examples of a mass-mail campaign. SAMHSA will carefully consider all testimony submitted into the docket.

Oral Tribal Testimony: Based on the number of participants giving testimony and the time available, it may be necessary to limit speaking times for each presenter. We will adjourn the Tribal consultation meeting early if all attendees who requested to provide oral testimony in advance of and during the consultation have delivered their testimony.

Written Tribal Testimony: SAMHSA will accept written Tribal testimony until 5:00 p.m., until September 28, 2023. Written Tribal testimony should be submitted by email to otap@samhsa.hhs.gov. All submissions must include Tribal affiliation. All relevant comments, including any personal information provided, will be posted without change. Written testimony received in advance of the meeting will be included in the official record of the meeting. The consultation meeting will be recorded, transcribed, and posted without change to https://www.samhsa.gov/tribal-affairs/news-events, including any personal information provided.

This meeting is being held in accordance with Presidential Executive Order No. 13175, November 6, 2000, and Presidential Memorandums of November 5, 2009, and September 23, 2004, and January 26, 2021 on Consultation and Coordination with Indian Tribal Government and SAMHSA's Tribal Consultation Policy, which can be found at: https://www.samhsa.gov/sites/default/files/topics/tribal_affairs/tribal-consultation-policy-2017.pdf

Matters To Be Considered:

In the Consolidated Appropriations Act of 2023 amended Section 506A of the Public Health Services Act (42 U.S.C. 290aa-5a), Congress authorized a Behavioral Health and Substance Use Disorder Resources for Native Americans program. This program authorizes SAMHSA to fund eligible entities to provide services for the prevention, treatment, and recovery from mental and substance use disorders among American Indians, Alaska Natives and Native Hawaiians.

A. Eligible entities include a Tribal Health Program, an Indian Tribe, a Tribal Organization, an Urban Indian Organization, and a Native Hawaiian Health Organization (Papa Ola Lokahi).

B. Delivery of Funds—SAMHSA in coordination with Indian Health Service may award the funds through a contract or compact as applicable under Title I or V of the Indian Self-Determination and Education Assistance Act (ISDEAA).

C. Formula to determine the amount of each award.

D. Data Submission and Reporting—As a condition of receipt of funds, an applicant shall agree to submit program evaluation and reporting requirements.

Dated: July 6, 2023.
Carlos Castillo,
Committee Management Officer.

[FR Doc. 2023-14638 Filed 7-10-23; 8:45 am]

BILLING CODE 4162-20-P